INTERNATIONAL BOUNDARY AND WATER COMMISSION, UNITED STATES AND MEXICO

Implement International Agreement for Deliveries to Tijuana, Baja California, of a Part of Mexico's Colorado River Waters Through the Southern California Aqueducts; Notice of Draft Finding of No Significant Impact

AGENCY: United States Section, International Boundary and Water Commission, United States and Mexico.

ACTION: Notice of draft Finding of No Significant Impact for a draft Environmental Assessment.

SUMMARY: Based on a draft Environmental Assessment (EA), the United States Section (U.S.) finds that the proposed action of implementing an international agreement with the Government of Mexico through the International Boundary and Water Commission (IBWC) to provide emergency deliveries to Tijuana, Baja California, of a part of Mexico's Colorado River water allotment through the Southern California aqueducts, is not a major federal action that would have a significant adverse effect on the quality of the human environment. An environmental impact statement will not be prepared for the project unless additional information which may affect this decision is brought to the attention of the U.S. within thirty (30) days of the date of this Notice. The draft Finding of No Significant Impact (FONSI) and draft EA have been forwarded to the United States Environmental Protection Agency and various Federal, State and local agencies and interested parties. Your written (ATTN: Mr. Steve Fox, USIBWC, 4171 N Mesa St, C-310, El Paso, TX 79902) or e-mailed (stevefox@ibwc.state.gov) comments will be considered in the final USIBWC decision on the proposed action. Your comments on the draft FONSI and draft EA would be appreciated within 30 days after publication in the Federal Register. These documents can be reviewed on the USIBWC Home Page at http://www.ibwc.state.gov under “What's New” or at the San Diego Central Library, 820 “E” St.; City of San Diego, Environmental Services Library, Ste. 130, 9601 Ridgehaven Court; Otay Mesa Branch Library, 3003 Coronado Ave., San Diego; San Ysidro Public Library, 101 West San Ysidro Blvd.; Civic Center Branch Library, Eastlake Public Library, 365 F St., Chula Vista; and San Diego County Libraries at the Casa de Oro Branch, 9628 Campo Road # L, Spring Valley and at 1043 Elkelton Blvd., Spring Valley. A limited number of copies are available for review and comment upon request from Mr. Fox at the above address or e-mail or at (915) 832-4736.

The purpose of the proposed action is to arrange emergency deliveries of a portion of Mexico's Colorado River water allocation through the Southern California aqueduct system to the Tijuana water distribution system under the terms of an international agreement. The proposed action would alleviate some of the current water shortage in Tijuana, with a population of about 1.3 million, and conditions that could lead to serious public health and economic problems that may impact inhabitants on both sides of the international boundary.

The emergency water deliveries would be made under the terms of a Minute of the IBWC utilizing the existing facilities in the United States. A minute is an international agreement of the IBWC. The agreement will provide terms and conditions for the emergency deliveries. The IBWC may conclude such agreements under the terms of the United States/Mexico Treaty of 1944 (1944 Water Treaty). The U.S. Commissioner of the IBWC is authorized to arrange such agreements in the United States by the Act of August 19, 1935 (U.S. Congress, 1935) and the American-Mexican Treaty Act of September 13, 1950, (U.S. Congress, 1950).

The alternative is no action. The City of Tijuana is considering improvements to their system. The Southern California agencies that operate and maintain the Southern California aqueducts are willing and able to make deliveries under emergency conditions.

The proposed five year emergency water deliveries would begin during the spring of 2001 and would consist of a delivery to Tijuana of a portion of the waters allotted to Mexico under the 1944 Water Treaty. The waters are for use in Tijuana, Baja California. Conveyance will be by means of aqueducts owned and operated by the Metropolitan Water District (MWD) and the San Diego County Water Authority (SDCWA). Emergency water deliveries to Mexico from the Southern California aqueducts will be through pipelines and other facilities belonging to the Otay Water District (OWD) up to a maximum rate of 0.6 m³/sec (14 mgd) during peak demand periods in Tijuana. The delivery to Mexico, based on Mexico's request, not to exceed conveyance system capacity, would use the existing emergency connection located at the international boundary about 6.3 miles (10.1 km) east of the Otay port-of-entry, on Otay Mesa, San Diego, California.

The final conveyance point to Mexico requires use of an existing line to be replaced at Mexico's expense. This line to Mexico requires the replacement of an 80-foot segment of existing 14-inch pipeline that was initially installed as a temporary measure. Up to 120 feet of deteriorated 24-inch pipeline will also be replaced. Therefore, a maximum of approximately 200 linear feet of pipeline will be replaced, between the OWD meter to the international border, with 24-inch pipeline consistent with the remainder of OWD pipelines in the Otay Mesa area. The upgrade in diameter that will occur through the replacement of 14-inch diameter section of pipeline will require the installation of a meter vault and bypass that will also include backflow prevention and a small (less than 1,000 square foot) concrete security building or fence. All pipeline and meter vault construction, as well as completed facilities, will be located within the existing 30-foot wide OWD easement on the site which is accessible by existing roads. This improvement facilitates the City of Tijuana's peak demand of approximately 4.0 m³/sec (91 mgd) by the Comision Estatal de Servicios Pubilico de Tijuana's (CESPT) system. The surface area of the above ground structures will be approximately 260 ft² (24 m²) and the area of the temporary land disturbance (i.e., construction) will be about 3050 ft² (283 m²).

Under the no action alternative, the City of Tijuana could experience a water supply shortage lasting upwards of several days. There could be the public health risk of illnesses attributed to water shortages which could have an impact on communities on both sides of the international boundary. Under another alternative, not considered in the EA, is that for water supply expansion in the City of Tijuana by Mexico. The responsible agencies in Mexico are evaluating alternative sources of water for the region such that emergency water deliveries would be needed until they can be constructed. Of the alternatives considered, the proposed action is most compatible with the responsibilities and powers of the United States Section IBWC in implementing United States/Mexico agreements of the IBWC and does not significantly affect the resources.

The detailed air quality analysis indicated project-related pollutant will be at the threshold for some of the criteria pollutants. The proposed action will be in compliance with San Diego Air Pollution Control District (APCD) Rules and Regulations. The overall air emissions impacts will be consistent with applicable ambient air quality standards. An application was submitted by the OWD to the APCD in May 2000 for a permit to increase operation of the three natural gas engines that will be required to deliver the water to Mexico. Staff plans to purchase specific equipment to continue the District's practice of equipment standardization and to obtain the best, proven engine and air pollution control technology. The APCD adopted revisions to Rule 69.4.1 in November 2000, six months after submittal of the original permit application to APCD. The revisions to APCD Rule 69.4.1 implement more stringent California state-mandated Best Available Retrofit Control Technology (BARCT) requirements to further reduce nitrogen oxide ( NOX) emissions in San Diego County that will take full effect in 2002. OWD has determined that retrofitting existing engines to meet the new emission guidelines and deliver the water to Mexico will be cost prohibitive; therefore, OWD will purchase new engines with Best Available Control Technology (BACT) [(i.e., with new Caterpillar engines and non-selective catalytic reduction (NSCR) and NOX emissions controls)] that will more reliably and cost-effectively meet these new emission standards. OWD has committed to purchasing equipment that is the best, proven technology for accomplishing OWD purposes that will meet APCD requirements. OWD is currently in the process of purchasing the necessary engines and BACT in order to deliver the water to Mexico; however, due to the timing of the APCD mandate relative to Rule 69.4.1 and the date when water will need to be delivered to Mexico, OWD will be required to obtain a variance from APCD in order to operate the existing engines without BARCT until the new engines with BACT are installed, tested, and permitted. OWD will off-set or otherwise mitigate the emissions allowed during the APCD variance consistent with the terms and conditions of the variance as well as existing APCD rules and regulations.

Based on the conformity determination made under 40 Code of Federal Regulations (CFR) part 51.858, the Federal action will be in conformity with the specific requirements and the purposes of the California Ambient Air Quality Standards pursuant to the United States Section's affirmative obligation under section 176(c) of the Clean Air Act in accordance with the requirements of 40 CFR, Ch. I, part 51, subpart W. The Federal action will be in compliance with the Clean Air Act and California's compliance requirements for air quality resources.

The proposed project complies with all requirements of Federal Statutes, executive orders and other statutes, regulations and applicable permit, including the National Environmental Policy Act (NEPA), United States Section's NEPA implementing procedures and the California Environmental Quality Act (CEQA) because there will be no significant project impacts. Project coordination on air quality and all other resources, including cultural, biological, and any Federally threatened and endangered species or habitats is being completed concurrently by OWD and the United States Section for NEPA and CEQA compliance.

This draft EA, “Implement International Agreement for Deliveries to Tijuana, Baja California, of a Part of Mexico's Colorado River Waters Through the Southern California Aqueducts” assesses the potential impacts of the proposed action and its alternatives. No significant adverse effects to the resources of the connecting facilities, Otay Mesa, Southern California Aqueducts, Colorado River, City of Tijuana, biological, archaeological, historical and other cultural resources, water, air quality, environmental justice, energy, and induced growth are expected by implementing the proposed action.

Based upon the results of the draft Environmental Assessment and implementation of the proposed best available control technology and air permit stipulations, it has been determined that the proposed action will not have a significant adverse effect on the environment and an Environmental Impact Statement is not warranted.

Dated: March 13, 2001.
William A. Wilcox, Jr.,
Attorney-Advisor (General).

[FR Doc. 01-9156 Filed 4-12-01; 8:45 am]

BILLING CODE 7010-01-P